DEPARTMENT OF AGRICULTURE

Agricultural Marketing Service

[Docket No. PY-01-001]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for Poultry Market News Programs.

DATES: Comments on this notice must be received by December 29, 2000.

ADDITIONAL INFORMATION OR COMMENTS: Contact Grover T. Hunter, Market News Branch, Poultry Programs, Agricultural Marketing Service, U.S. Department of Agriculture, STOP 0262, 1400 Independence Avenue, SW, Washington, D.C. 20090-6456, (202) 720-6911 and FAX (202) 720-2403.

SUPPLEMENTARY INFORMATION: Title: Poultry Market News Reports.

OMB Number: 0581-0033.

Expiration Date of Approval: July 31, 2001.

Type of Request: Extension of a currently approved information collection.

Abstract: Under the Agricultural Marketing Act of 1946, as amended, (7 U.S.C. 1621 et seq.) the Poultry Market News Branch provides nationwide coverage of broiler/fryers, turkeys, and eggs through field offices. Reporters in the Federal-State field offices make contact with trade members. The mission of Market News is to provide current unbiased, factual information to all members of the Nation's agricultural industry, from farm to retailer, depicting current conditions on supply, demand, price trend, movement, and other pertinent information affecting the trade in poultry and eggs, and their respective products. In order to accomplish this mission, Market News observes, records, interprets, and reports trading levels of poultry and egg markets. Market reports assist producer-processors in their production planning, and help promote orderly marketing by placing producer-processors and others in the industry on a more equal bargaining basis.

Estimate of Burden: Public reporting burden for this collection of information is estimated to average 0.83 hours per response

Respondents: Producers, processors, brokers, distributors, and retailers.

Estimated Number of Respondents: 1720.

Estimated Number of Responses per Respondent: 123.69.

Estimated Total Annual Burden on Respondents: 17,657.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Grover T. Hunter, Market News Branch, Poultry Programs, Agricultural Marketing Service, U.S. Department of Agriculture, STOP 0262, 1400 Independence Avenue SW, Washington, D.C. 20090-6456. All comments received will be available for public inspection during regular business hours at the same address.

All responses to this notice will be summarized and included in the request for OMB approval. All comments will become a matter of public record.

Dated: October 24, 2000.
Howard M. Magwire,
Acting Deputy Administrator, Poultry Programs.

[FR Doc. 00-27786 Filed 10-27-00- 8:45 am]

BILLING CODE 3410-02-P